ENVIRONMENTAL PROTECTION AGENCY

40 CFR Part 1051

Control of Emissions From Recreational Engines and Vehicles

CFR Correction

In title 40 of the Code of Federal Regulations, part 790 to end, revised as of July 1, 2008, on page 797, in § 1051.315, reinstate paragraph (a) introductory text to read as follows:

§ 1051.315 How do I know when my engine family fails the production-line testing requirements?

* * * * *

(a) Calculate your test results. Round them to the number of decimal places in the emission standard expressed to one more decimal place.

* * * * *

[FR Doc. E8-25114 Filed 10-20-08; 8:45 am]

BILLING CODE 1505-01-D